EXPORT-IMPORT BANK OF THE UNITED STATES

Economic Impact Policy

This notice is to inform the public that the Export-Import Bank of the United States has received an application to finance the export of $328 million of U.S. goods and services for a mining project in Argentina. According to the applicant, the U.S. exports will enable the buyer to produce an additional 14.74 metric tons of gold and 17.86 metric tons of silver per year. Available information indicates that virtually all of this new production will be exported from Argentina and sold on the world market. Interested parties may submit comments on this transaction by e-mail to economic.impact@exim.gov or by mail to 81 Vermont Avenue, NW., Room 1238, Washington, DC 20571, within 14 days of the date this notice appears in the Federal Register.

Helene S. Walsh,
Director, Policy Oversight and Review.

[FR Doc. 03-31124 Filed 12-16-03; 8:45 am]

BILLING CODE 6690-01-M